DEPARTMENT OF ENERGY

Federal Energy Regulatory Commission

[Project No. 1403-068]

Yuba County Water Agency; Notice of Reasonable Period of Time for Water Quality Certification Application

On December 30, 2024, Yuba County Water Agency submitted to the Federal Energy Regulatory Commission (Commission) a copy of its application for Clean Water Act section 401(a)(1) water quality certification filed with the California State Water Resources Control Board (Water Board), in conjunction with the above captioned project. The submittal also included a response from the Water Board stating that it received the application on the same day. Pursuant to section 4.34(b)(5) of the Commission's regulations,¹ we hereby notify the Water Board of the following:

¹ 18 CFR 4.34(b)(5).

Date of Receipt of the Certification Request: December 30, 2024

Reasonable Period of Time to Act on the Certification Request: December 30, 2025

If the Water Board fails or refuses to act on the water quality certification request on or before the above date, then the certifying authority is deemed waived pursuant to section 401(a)(1) of the Clean Water Act, 33 U.S.C. 1341(a)(1).

Dated: January 3, 2025.
Debbie-Anne Reese,
Secretary.

[FR Doc. 2025-00353 Filed 1-8-25; 8:45 am]

BILLING CODE 6717-01-P